COMMITTEE FOR THE IMPLEMENTATION OF TEXTILE AGREEMENTS

Withdrawal of Two Commercial Availability Petitions under the United States - Caribbean Basin Trade Partnership Act (CBTPA)

March 11, 2005.

AGENCY: The Committee for the Implementation of Textile Agreements (CITA)

ACTION: The petitioner has notified CITA that it is withdrawing two petitions it submitted for determinations that certain 100 percent cotton, 4-thread twill weave, flannel fabrics and certain 100 percent cotton, double faced sateen weave, flannel fabrics cannot be supplied by the domestic industry in commercial quantities in a timely manner under the CBTPA.

SUMMARY: On March 3, 2005, the Chairman of CITA received two petitions from Sandler, Travis & Rosenberg, P.A., on behalf of B*W*A of New York, New York, alleging that certain, 100 percent cotton, 4-thread twill weave, flannel fabrics, of yarn-dyed, ring spun and plied yarns, and certain 100 percent cotton, double faced sateen weave, flannel fabrics, of yarn-dyed, single yarns, of certain specifications, cannot be supplied by the domestic industry in commercial quantities in a timely manner. The petitions requested that men's and boys' woven cotton shirts and woven cotton shirts and blouses, respectively, of such fabrics assembled in one or more CBTPA beneficiary countries be eligible for preferential treatment under the CBTPA. On March 9, 2005, CITA published notices in the Federal Register (70 FR 11621 and 70 FR 11620) soliciting public comments on these petitions, in particular with regard to whether these fabrics can be supplied by the domestic industry in commercial quantities in a timely manner.

On March 9, 2005, CITA received a letter from Sandler, Travis & Rosenberg, P.A. withdrawing the petitions. The specifications of these fabrics are repeated below. The petitioner states that the weight of the fabrics was incorrectly stated in both petitions.

FOR FURTHER INFORMATION CONTACT: Janet E. Heinzen, International Trade Specialist, Office of Textiles and Apparel, U.S. Department of Commerce, (202) 482-3400.

Specifications:

Petitioner Style No: | 153, 154, 155, 156, W3004
Fiber Content: | 100% Cotton
Weight: | 168 - 172 g/m2
Width: | 142 - 145 centimeters
Thread Count: | 25 -26 warp ends per centimeter; 23-24 filling pick per centimeter; total 48-50 threads per square centimeter
Yarn Number: | 35/2 - 36/2 metric warp and filling, ring spun; Overall average yarn number: 32-34 metric
Weave: | 4-thread twill
Finish: | Of two or more yarns of different colors in the warp and filling, napped on both sides
Petitioner Style No: | 5225
Fiber Content: | 100% Cotton
Weight: | 315-320 g/m2
Width: | 148 - 152 centimeters
Thread Count: | 33 - 35 warp ends per centimeter; 57 - 59 filling picks per centimeter; total 90 - 94 threads per square centimeter
Yarn Number: | 50 - 52 metric warp; 23 - 25 metric filling; overall average yarn number: 28 - 30 metric
Weave: | Double faced irregular 3 X 1 sateen
Finish: | Printed on one side on yarns of different colors; napped on both sides; Sanforized

James C. Leonard III,
Chairman, Committee for the Implementation of Textile Agreements.

[FR Doc.05-5205 Filed 3-11-05; 2:16 pm]

BILLING CODE 3510-DS-S